DEPARTMENT OF TRANSPORTATION

Federal Highway Administration

Notice To Rescind a Notice of Intent To Prepare an Environmental Impact Statement, Ada and Canyon Counties, ID

AGENCY: Federal Highway Administration.

ACTION: Rescind Notice of Intent to prepare an Environmental Impact Statement.

SUMMARY: The FHWA is issuing this notice to advise the public that the Notice of Intent published on August 28, 2007 to prepare an Environmental Impact Statement for a proposed highway project in Ada and Canyon County, Idaho is being rescinded.

FOR FURTHER INFORMATION CONTACT: Mr. John Perry, Field Operations Engineer, Federal Highway Administration, 3050 Lakeharbor Lane, Suite 126, Boise, Idaho 83703, Telephone: (208) 334-9180, ext. 116, or Mr. Greg Vitley, Sr. Environmental Planner, Idaho Transportation Department District 3, P.O. Box 8028, Boise, Idaho 83714-8028, Telephone: (208) 334-8300.

SUPPLEMENTARY INFORMATION: The Federal Highway Administration (FHWA) published a Notice of Intent (NOI) to prepare an EIS for a project to construct additional travel lanes and other improvements to approximately 17 miles of State Highway 44 from Exit 25 at Interstate 84 in Canyon County to Ballantyne Lane in Ada County. The project is commonly known as the State Highway 44 Corridor Preservation Study, Project No. STP-3320(101); Key No. 07827.

Recommendations for improvements along this corridor are identified in the regional long-range transportation plan, “Communities in Motion,” prepared by the Community Planning Association of Southwest Idaho (COMPASS) as revised and adopted by the COMPASS board in September 2010.

Public meetings were held on May 24-25, 2006; August 22, 2007; and February 11-12, 2009 to solicit comments from the public on the purpose and need, alternatives being considered and the alternative screening process. Participating Agency meetings were held on November 8, 2007 and December 11, 2008. Environmental scans and screening indicate low potential for significant impacts from the alternatives being considered.

The NOI is being rescinded because the project development and environmental process have identified low potential for significant impacts. If, at a future time, FHWA determines that the proposed action is likely to have a significant impact on the environment, a new NOI to prepare an EIS will be published.

To ensure that the full range of issues related to this proposed action and all significant issues are identified, comments and suggestions regarding this action to rescind the NOI published August 22, 2007 for the highway project in Ada and Canyon County, Idaho are invited from all interested parties. Comments or questions should be directed to FHWA or ITD addresses provided above.

Peter J. Hartman,
Division Administrator, FHWA—Idaho Division.

[FR Doc. 2011-6248 Filed 3-16-11; 8:45 am]

BILLING CODE P